DEPARTMENT OF TRANSPORTATION

Office of the Secretary

Aviation Proceedings, Agreements Filed the Week Ending May 9, 2008

The following Agreements were filed with the Department of Transportation under the Sections 412 and 414 of the Federal Aviation Act, as amended (49 U.S.C. 1383 and 1384) and procedures governing proceedings to enforce these provisions. Answers may be filed within 21 days after the filing of the application.

Docket Number: DOT-OST-2008-0160.

Date Filed: May 9, 2008.

Parties: Members of the International Air Transport Association.

Subject:

Mail Vote 567—Resolution 010z.

TC3 Japan, Korea-South East Asia, Within South East Asia

Special Passenger Amending Resolution between Hong Kong SAR and Japan, between China (excluding Hong Kong SAR and Macao SAR) and Russia (in Asia)

(Memo 1197)

Intended effective date: 15 May 2008.

Renee V. Wright,
Program Manager, Docket Operations, Federal Register Liaison.

[FR Doc. E8-13994 Filed 6-19-08; 8:45 am]

BILLING CODE 4910-9X-P